DEPARTMENT OF AGRICULTURE

Office of the Secretary

Establishment of Shipping Patterns for Mexico's North American Free Trade Agreement Allocation Under the Fiscal Year 2001 Sugar Tariff Rate Quotas

AGENCY: Office of the Secretary, USDA.

ACTION: Notice.

SUMMARY: This notice establishes shipping patterns for Mexico's fiscal year North American Free Trade Agreement (NAFTA) allocation of 105,788 metric tons raw value under the FY 2001 sugar tariff rate quotas.

EFFECTIVE DATE: August 22, 2001.

ADDRESSES: Inquiries may be mailed or delivered to the Import Policies and Programs Division Director, Foreign Agricultural Service, AgStop 1021, South Building, U.S. Department of Agriculture, Washington, D.C. 20250-1021.

FOR FURTHER INFORMATION CONTACT: Richard Blabey (Division Director, Import Policies and Programs Division), 202-720-2916.

Notice

I hereby give notice, in accordance with section 2011.107(a) of 15 CFR 2011 Subpart A, that I will issue Certificates of Quota Eligibility (CQEs) to allow Mexico to enter up to 70 percent of its NAFTA allocation for raw cane sugar and certain other sugars, syrups, and molasses, before June 30, 2001. The remaining 30 percent, plus any residual quantity not shipped prior to June 30, may enter at the low tier tariff during the final quarter of FY 2001.

Mexico's FY 2001 NAFTA allocation was established at 105,788 metric tons raw value. This sugar may be entered at the low tier tariff under subheadings 1701.11.10, 1701.12.10, 1701.91.10, 1701.99.10, 1702.90.10, and 2106.90.44 of the Harmonized Tariff Schedule of the United States.

Signed at Washington, D.C. August 10, 2001.
Ann M. Veneman,
Secretary of Agriculture.

[FR Doc. 01-21100 Filed 8-21-01; 8:45 am]

BILLING CODE 3410-10-P